CONSUMER PRODUCT SAFETY COMMISSION

[Docket No. CPSC-2016-0002]

Notice of Availability: CPSC's Draft 2016-2020 Strategic Plan

AGENCY: U.S. Consumer Product Safety Commission.

ACTION: Notice of availability.

SUMMARY: The Consumer Product Safety Commission (“CPSC”) has drafted a Strategic Plan for 2016-2020. CPSC seeks comments from the public on the draft plan.

DATES: Submit comments by March 9, 2016.

ADDRESSES: You may submit comments, identified by Docket No. CPSC-2016-0002, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2016-0002, into the “Search” box, and follow the prompts.

FOR FURTHER INFORMATION CONTACT: Anne Inserra, Office of Financial Management, Planning and Evaluation, U.S. Consumer Product Safety Commission, 4330 East-West Highway, Bethesda, MD 20814; telephone: (301) 504-7421; email: ainserra@cpsc.gov.

SUPPLEMENTARY INFORMATION: The CPSC is an independent federal regulatory agency with a public health and safety mission to protect the public from the unreasonable risks of injury and death from consumer products. The CPSC is providing notice that the agency is seeking public comments on its new draft 2016-2020 Strategic Plan.

Under the draft new Strategic Plan, the CPSC's mission is “Keeping Consumers Safe.” The agency's overarching vision is “A nation free from unreasonable risks of injury and death from consumer products.” The CPSC will work to achieve four strategic goals that will contribute to realizing the agency's vision and achieving its mission. CPSC's programs will align with the strategic goals, and staff will implement strategies to achieve the strategic goals. The strategic goals are:

1. Cultivate the most effective consumer product safety workforce.

2. Prevent hazardous products from reaching consumers.

3. Respond quickly to address hazardous consumer products in the marketplace and with consumers.

4. Communicate useful information quickly and effectively to better inform decisions.

The draft 2016-2020 Strategic Plan sets out how the CPSC will pursue the four strategic goals. The draft Strategic Plan is available on the Commission's Web site at: http://www.cpsc.gov/en/About-CPSC/Agency-Reports/Performance-and-Budget/.

The CPSC seeks comments on all aspects of the draft 2016-2020 Strategic Plan. CPSC has a wide range of external stakeholders from industry, trade associations, consumer groups, nonprofits, and standards development organizations, as well as from the international, congressional, federal, state, and local sectors. The agency looks forward to receiving comments from all individuals and entities involved in, and affected by, the CPSC's activities. Please provide comments as directed in the ADDRESSES section of this notice.

Dated: February 3, 2016.
Todd A. Stevenson,
Secretary, Consumer Product Safety Commission.

[FR Doc. 2016-02360 Filed 2-5-16; 8:45 am]

BILLING CODE 6355-01-P